DEPARTMENT OF HEALTH AND HUMAN SERVICES

National Institutes of Health

Submission for OMB Review; 30-Day Comment Request; NIDDK Office of Minority Health Research Coordination (OMHRC) Research Training and Mentor Programs Applications (National Institute of Diabetes and Digestive and Kidney Diseases)

AGENCY: National Institutes of Health, HHS.

ACTION: Notice.

SUMMARY: In compliance with the Paperwork Reduction Act of 1995, the National Institutes of Health (NIH) has submitted to the Office of Management and Budget (OMB) a request for review and approval of the information collection listed below. This proposed information collection was previously published in the Federal Register (Vol. 81, No. 93, page 29877) on May 13, 2016 and allowed 60-days for public comment. No public comments were received. The purpose of this notice is to allow an additional 30 days for public comment.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: NIH Desk Officer.

FOR FURTHER INFORMATION CONTACT: To request more information on the proposed project or to obtain a copy of the data collection plans and instruments, contact: Ms. Winnie Martinez, Program Officer, OMHRC, NIDDK, NIH, 6707 Democracy Blvd., Room 9215, Bethesda, MD 20892 or call non-toll free number (301) 435-2988 or Email your request including your address to Winnie.Martinez@nih.gov. Formal requests for additional plans and instruments must be requested in writing.

SUPPLEMENTARY INFORMATION: The National Institute of Diabetes and Digestive and Kidney Diseases (NIDDK), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed collection: NIDDK Office of Minority Health Research Coordination (OMHRC) Research Training and Mentor Programs Applications, 0925—New, Existing collection in use without OMB control number, National Institute of Diabetes, Digestive and Kidney Diseases (NIDDK) National Institutes of Health (NIH).

Need and Use of Information Collection: The purpose of the proposed information collection activity is to assure that prospective trainees to OMHRC Research Training and Mentoring Programs meet basic eligibility requirements; to assess their potential as future scientists; to determine where mutual research interests exist; and to make decisions regarding which applicants will be proposed and approved for traineeship awards. In each case, completing the application is voluntary, but in order to receive due consideration, the prospective trainee must complete all required fields.

OMB approval is requested for 3 years. There are no costs to respondents other than their time. The total estimated annualized burden hours are 2569.

Estimated Annualized Burden Hours
Form name | Type of respondents | Estimated Number of respondents | Estimated Number of responses annually per respondent | Average burden per response (in hours) | Est. total annual burden hours
Attachment 1: Short-Term Research Experience for Underrepresented Persons (STEP-UP) Application | Students | 2,000 | 1 | 45/60 | 1,500
Attachment 2: STEP-UP Student Feedback Form | Students | 200 | 1 | 30/60 | 100
Attachment 3: Diversity Summer Research Training Program (DSRTP) Application | Students | 200 | 1 | 45/60 | 150
Attachment 4: DSRTP Feedback Form | Students | 40 | 1 | 30/60 | 20
Attachment 5: Network of Minority Research Investigators (NMRI) Enrollment Form | Researchers | 200 | 1 | 15/60 | 50
Attachment 6: NMRI Evaluation Form | Researchers | 100 | 1 | 15/60 | 25
Attachment 7: NMRI Survey Form | Researchers | 1,000 | 1 | 30/60 | 500
Attachment 8: NMRI Mentor/Mentee/Agreement Forms | Researchers | 100 | 1 | 30/60 | 50
Attachment 9: NIH/NMA Fellows Program on Careers in Academic Medicine Application | Fellows | 200 | 1 | 20/60 | 67
Attachment 10: NIH/NMA Feedback Form | Fellows | 40 | 1 | 30/60 | 20
Attachment 11: NIH/NHMA Fellows Program Application Form | Fellows | 200 | 1 | 20/60 | 67
Attachment 12: NIDDK/NHMA Feedback Form | Fellows | 40 | 1 | 30/60 | 20
Totals |  | 4,320 | 4,320 |  | 2,569

Dated: August 26, 2016.
Priscilla Logan,
NIDDK Project Clearance Liaison, Office of Management and Policy Analysis, NIDDK, NIH.

[FR Doc. 2016-21329 Filed 9-2-16; 8:45 am]

BILLING CODE 4140-01-P